GENERAL SERVICES ADMINISTRATION

41 CFR Part 301-10

[FTR Amendment 2005-04; FTR Case 2005-307]

RIN 3090-AI18

Federal Travel Regulation; Privately Owned Vehicle Mileage Reimbursement

AGENCY: Office of Governmentwide Policy, GSA.

ACTION: Final rule.

SUMMARY: This final rule amends the mileage reimbursement rate for use of a privately owned vehicle (POV) on official travel to reflect recent gas price increases. The governing regulation is revised to increase the cost of operating a privately owned automobile from 40.5 to 48.5 cents per mile.

EFFECTIVE DATE: Applicability Date: This final rule is effective from September 1 to December 31, 2005, and applies to travel performed during that time period.

FOR FURTHER INFORMATION CONTACT: The Regulatory Secretariat, Room 4035, GSA Building, Washington DC 20405, (202) 208-7312, for information pertaining to status or publication schedules. For clarification of content, contact Peggy DeProspero, Office of Governmentwide Policy, Travel Management Policy, at (202) 501-2826. Please cite FTR Amendment 2005-04; FTR case 2005-307.

SUPPLEMENTARY INFORMATION:

A. Background

Pursuant to 5 U.S.C. 5707(b), the Administrator of General Services has the responsibility to establish the privately owned vehicle (POV) mileage reimbursement rates. In recognition of recent gasoline price increases, the Administrator of General Services has determined the per-mile operating costs of a POV to be 48.5 cents for automobiles. As provided in 5 U.S.C. 5704(a)(1), the automobile reimbursement rate cannot exceed the single standard mileage rate established by the Internal Revenue Services (IRS). The IRS announced on September 9, 2005, a new single standard mileage rate for automobiles of 48.5 cents effective from September 1 to December 31, 2005.

B. Regulatory Flexibility Act

This final rule is not required to be published in the Federal Register for notice and comment; therefore, the Regulatory Flexibility Act does not apply.

C. Executive Order 12866

GSA has determined that this final rule is not a significant regulatory action for the purposes of Executive Order 12866 of September 30, 1993.

D. Paperwork Reduction Act

The Paperwork Reduction Act does not apply because this final rule does not impose recordkeeping or information collection requirements, or the collection of information from offerors, contractors, or members of the public which require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: September 12, 2005.
Stephen A. Perry,
Administrator of General Services.

For the reasons set forth in the preamble, under 5 U.S.C. 5701-5709, GSA amends 41 CFR part 301-10 as set forth below:

PART 301-10—TRANSPORTATION EXPENSES

1. The authority citation for 41 CFR part 301-10 is revised to read as follows:

Authority: 5 U.S.C. 5707; 40 U.S.C. 121(c).

§ 301-10.303 [Amended]

2. In section 301-10.303, in the table, in the second column, in the third entry under the heading “Your reimbursement is”, remove “$0.405” and insert “$0.485” in its place.

[FR Doc. 05-18390 Filed 9-13-05; 10:11 am]

BILLING CODE 6820-14-P